DEPARTMENT OF VETERANS AFFAIRS

[OMB Control No. 2900-0798]

Proposed Information Collection (Beneficiary Travel Mileage Reimbursement Application Form, VA Form 10-3542) Activity: OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden; it includes the actual data collection instrument.

DATES: Comments must be submitted on or before November 7, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0798” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0798.”

SUPPLEMENTARY INFORMATION:

Title: Beneficiary Travel Mileage Reimbursement Application Form.

OMB Control Number: 2900-0798.

Type of Review: Extension of a Currently Approved Collection.

Abstract: The information collection is for beneficiaries to apply for the BT mileage reimbursement benefit. VHA determines the identity of the claimant, the dates and length of the trip being claimed based on addresses of starting and ending points, and whether expenses other than mileage are being claimed. The claimant is required to sign the form. The form is used only when the claimant chooses not to apply verbally and is provided for their convenience. Once the information is obtained it is entered into a software program that calculates the mileage and resulting reimbursement. The Federal Register Notice with a 60-day comment period soliciting comments on this collection of information was published at Vol. 81, No. 129, Friday, July 6, 2016

Affected Public: Individuals or households.

Estimated Annual Burden: 580,000 hours.

Estimated Average Burden per Respondent: 3 minutes.

Frequency of Response: 8 per year.

Estimated Number of Respondents: 1,450,000.

By direction of the Secretary.
Cynthia Harvey-Pryor,
Program Specialist, Office of Privacy and Records Management, Department of Veterans Affairs.

[FR Doc. 2016-24159 Filed 10-5-16; 8:45 am]

BILLING CODE 8320-01-P